DEPARTMENT OF DEFENSE

Department of the Army

Availability for Non-Exclusive, Exclusive, or Partially Exclusive Licensing of U.S. Patent Application Concerning Method of Inhibiting Side Effects of Pharmaceutical Compositions Containing Amphiphilic Vehicles or Drug Carrier Molecules

AGENCY: U.S. Army Medical Research and Materiel Command, DOD.

ACTION: Notice.

SUMMARY: In accordance with 37 CFR 404.6, announcement is made of the availability for licensing of U.S. Patent Application No. 09/183,375 entitled “Method of Inhibiting Side Effects of Pharmaceutical Compositions Containing Amphiphilic Vehicles or Drug Carrier Molecules” filed October 30, 1998. Foreign rights are also available (PCT/US98/23280). This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: A method is provided for inhibiting or preventing toxicity and other unwanted effects (a) caused by solvents for pharmaceuticals which solvents or emulsifier contain amphiphilic molecules such as polyethoxylated oils or a derivative thereof, or (b) caused by a drug in a vehicle containing amphiphilic molecules such as phospholipids or derivative thereof, employing a complement inhibitor, and pharmaceutical compositions including a drug, solvent, or carrier containing amphiphilic molecules or derivatives thereof, and a complement inhibitor are also provided.

Luz D. Ortiz,
Army Federal Register Liaison Officer.

[FR Doc. 01-26674 Filed 10-22-01; 8:45 am]

BILLING CODE 3710-08-M